ENVIRONMENTAL PROTECTION AGENCY

40 CFR Part 52

[EPA-R05-OAR-2015-0192; FRL- 9927-95-Region-5]

Approval and Promulgation of Air Quality Implementation Plans; Ohio: Cleveland and Delta; Determination of Attainment for the 2008 Lead Standard

AGENCY: Environmental Protection Agency (EPA).

ACTION: Proposed rule.

SUMMARY: On February 20, 2015, the Ohio Environmental Protection Agency (Ohio EPA) submitted a request to the Environmental Protections Agency (EPA) to make a determination under the Clean Air Act that the Cleveland and Delta nonattainment areas have attained the 2008 lead (Pb) national ambient air quality standards (NAAQS). In this action, EPA is proposing to determine that the Cleveland and Delta nonattainment areas (areas) have attained the 2008 Pb NAAQS. These determinations of attainment are based upon complete, quality-assured and certified ambient air monitoring data for the 2012-2014 design period showing that the areas have monitored attainment of the 2008 Pb NAAQS. Additionally, as a result of this proposed determination, EPA is proposing to suspend the requirements for the areas to submit attainment demonstrations, together with reasonably available control measures, a reasonable further progress (RFP) plans, and contingency measures for failure to meet RFP and attainment deadlines for as long as the areas continue to attain the 2008 Pb NAAQS.

DATES: Comments must be received on or before June 25, 2015.

ADDRESSES: Submit your comments, identified by Docket ID No. EPA-R05-OAR-2015-0192, by one of the following methods:

1. www.regulations.gov: Follow the on-line instructions for submitting comments.

2. Email: aburano.douglas@epa.gov.

3. Fax: (312) 408-2279.

4. Mail: Douglas Aburano, Chief, Attainment Planning and Maintenance Section, Air Programs Branch (AR-18J), U.S. Environmental Protection Agency, 77 West Jackson Boulevard, Chicago, Illinois 60604.

5. Hand Delivery: Douglas Aburano, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Sarah Arra, Environmental Scientist, Attainment Planning and Maintenance Section, Air Programs Branch (AR-18J), Environmental Protection Agency, Region 5, 77 West Jackson Boulevard, Chicago, Illinois 60604, (312) 886-9401, arra.sarah@epa.gov.

SUPPLEMENTARY INFORMATION: In the Final Rules section of this Federal Register, EPA is making an attainment determination as a direct final rule without prior proposal because the Agency views this as a noncontroversial submittal and anticipates no adverse comments. A detailed rationale for the action is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: May 13, 2015.
Susan Hedman,
Regional Administrator, Region 5.

[FR Doc. 2015-12499 Filed 5-22-15; 8:45 am]

BILLING CODE 6560-50-P